INTER-AMERICAN FOUNDATION

Sunshine Act Meetings

TIME AND DATE: June 24, 2013, 9:00 a.m.-1:00 p.m.

PLACE: 1331 Pennsylvania Ave. NW., 12th floor north, Suite 1200, Washington, DC 20004.

STATUS: Open session

Matters To Be Considered

Approval of the Minutes of the March 25, 2013, Meeting of the Board of Directors

Management Report

Advisory Council Report

Donor Engagement

Portions To Be Open To The Public

Approval of the Minutes of the March 25, 2013, Meeting of the Board of Directors

Management Report

Advisory Council Report

Donor Engagement

CONTACT PERSON FOR MORE INFORMATION: Paul Zimmerman, General Counsel, (202) 683-7118.

Paul Zimmerman,
General Counsel.

[FR Doc. 2013-14044 Filed 6-10-13; 4:15 pm]

BILLING CODE 7025-01-P